DEPARTMENT OF COMMERCE

International Trade Administration

[A-570-168]

Certain Alkyl Phosphate Esters From the People's Republic of China: Final Affirmative Determination of Sales at Less Than Fair Value

AGENCY: Enforcement and Compliance, International Trade Administration, Department of Commerce.

SUMMARY: The U.S. Department of Commerce (Commerce) determines that certain alkyl phosphate esters (alkyl phosphate esters) from the People's Republic of China (China) are being, or are likely to be, sold in the United States at less than fair value (LTFV) during the period of investigation (POI) October 1, 2023, through March 31, 2024.

DATES: Applicable April 25, 2025.

FOR FURTHER INFORMATION CONTACT: Dennis McClure, or Matthew Lipka, AD/CVD Operations, Office VIII, Enforcement and Compliance, International Trade Administration, U.S. Department of Commerce, 1401 Constitution Avenue NW, Washington, DC 20230; telephone: (202) 482-5973, or (202) 482-7976, respectively.

SUPPLEMENTARY INFORMATION:

Background

On December 4, 2024, Commerce published the Preliminary Determination in the Federal Register and invited interested parties to comment.¹ For a complete description of the events that followed the Preliminary Determination, see the Issues and Decision Memorandum.²

¹ See Certain Alkyl Phosphate Esters from the People's Republic of China: Preliminary Affirmative Determination of Sales at Less Than Fair Value, Postponement of Final Determination and Extension of Provisional Measures, 89 FR 96223 (December 4, 2024) (Preliminary Determination), and accompanying Preliminary Decision Memorandum (PDM).

² See Memorandum, “Issues and Decision Memorandum for the Final Affirmative Determination in the Less-Than-Fair-Value Investigation of Certain Alkyl Phosphate Esters from the People's Republic of China,” dated concurrently with, and hereby adopted by, this notice (Issues and Decision Memorandum).

The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Scope of the Investigation

The products covered by this investigation are alkyl phosphate esters from China. For a complete description of the scope of this investigation, see Appendix I.

Scope Comments

We received no comments from interested parties on the scope of the investigation as it appeared in the Preliminary Determination. Therefore, we made no changes to the scope of the investigation.

Verification

As provided in section 782(i) of the Tariff Act of 1930, as amended (the Act), between December 2 and 12, 2024, Commerce conducted verification of the sales and factors of production information submitted by Zhejiang Wansheng Co., Ltd. (Zhejiang Wansheng) and Anhui RunYue Technology Co., Ltd. (Anhui RunYue).³ We used standard verification procedures, including an examination of relevant accounting records and original source documents provided by Zhejiang Wansheng and Anhui RunYue.

³ See Memoranda, “Verification of the Questionnaire Responses of Zhejiang Wansheng Co., Ltd.,” dated January 16, 2025; and “Verification of the Questionnaire Responses of Anhui RunYue Technology Co., Ltd.,” dated January 31, 2025.

Analysis of Comments Received

The issues raised in the case and rebuttal briefs by the parties in this investigation are discussed in the Issues and Decision Memorandum. For a list of the issues raised by interested parties and addressed in the Issues and Decision Memorandum, see Appendix II.

Changes Since the Preliminary Determination

Based on our review and analysis of the information received during verification and comments received from interested parties for this final determination, we made certain changes to the estimated weighted-average dumping margins for Zhejiang Wansheng and Anhui RunYue. For a discussion of these changes, see the Issues and Decision Memorandum.

Use of Adverse Facts Available (AFA)

Consistent with the Preliminary Determination,⁴ Commerce continues to find, pursuant to sections 776(a) and (b) of the Act, that the use of facts otherwise available, with adverse inferences, is warranted in determining the dumping rate for the China-wide entity. In the Preliminary Determination, Commerce applied Anhui RunYue's highest transaction-specific dumping margin to the China-wide entity as AFA.⁵ There is no new information on the record that would cause us to reconsider our decision in the Preliminary Determination. Thus, we made no changes to our analysis for the China-wide entity. We are assigning a rate of 269.02 percent,⁶ which is the highest calculated individual dumping margin of any respondent in the investigation for this final determination, to the China-wide entity.⁷ For a full description of the methodology underlying Commerce's final determination, see the Issues and Decision Memorandum.

⁴ See Preliminary Determination PDM at 17-20.

⁵ Id.

⁶ Without adjustment for subsidy offsets.

⁷ See Memorandum, “Analysis for Anhui RunYue Technology Co., Ltd. for the Final Determination of the Investigation of Certain Alkyl Phosphate Esters from the People's Republic of China,” dated concurrently with, and hereby adopted by, this notice; see also Issues and Decision Memorandum.

Separate Rates

No interested parties commented on Commerce's preliminary separate rate determinations,⁸ and we have no basis to reconsider the determinations. Accordingly, we continue to find that Zhejiang Wansheng, Anhui RunYue, and certain non-individually examined companies that are listed in the rate table below, are eligible for a separate rate.

⁸ See Preliminary Determination PDM at 11-16.

Combination Rates

Consistent with the Preliminary Determination, and Policy Bulletin 05.1,⁹ Commerce calculated exporter/producer combination rates for the respondents that are eligible for a separate rate.

⁹ See Enforcement and Compliance's Policy Bulletin No. 05.1, regarding, “Separate-Rates Practice and Application of Combination Rates in Antidumping Investigations involving Non-Market Economy Countries,” (April 5, 2005) (Policy Bulletin 05.1), available at https://access.trade.gov/Resources/policy/bull05-1.pdf.

Final Determination

Commerce determines that the following estimated weighted-average dumping margins exist for the period October 1, 2023, through March 31, 2024:

Exporter | Producer | Weighted- average dumping margin (percent) | Cash deposit rate (adjusted for subsidy offsets) (percent) ¹⁰
Anhui RunYue Technology Co., Ltd | Anhui RunYue Technology Co., Ltd | 254.60 | 167.46
Zhejiang Wansheng Co., Ltd | Zhejiang Wansheng Co., Ltd | 152.38 | 126.45
ACETO (SHANGHAI) LTD | Xinji Hongzheng Chemical Co., Ltd | 174.40 | 135.28
Anhui Shengli Import and Export Co., Ltd | Anhui Shengli Pesticide & Chemistry Co., Ltd | 174.40 | 135.28
Anhui Shengli Import and Export Co., Ltd | Ningguo Long Day Chemical Co., Ltd | 174.40 | 135.28
Fujian Wynca Technology Co., Ltd | Fujian Wynca Technology Co., Ltd | 174.40 | 135.28
Fujian Wynca Technology Co., Ltd | Anhui RunYue Technology Co., Ltd | 174.40 | 135.28
Fujian Wynca Technology Co., Ltd | Shandong Yarong Chemical Co., Ltd | 174.40 | 135.28
Shandong Yarong Chemical Co., Ltd | Shandong Yarong Chemical Co., Ltd | 174.40 | 135.28
Shanghai Iroyal Chemical Co., Ltd | Futong Chemical Co., Ltd | 174.40 | 135.28
Shanghai Iroyal Chemical Co., Ltd | Fujian Wynca Technology Co., Ltd | 174.40 | 135.28
Shanghai Iroyal Chemical Co., Ltd | Zhejiang Hong Hao Technology Co., Ltd | 174.40 | 135.28
Shanghai Iroyal Chemical Co., Ltd | Shandong Yarong Chemical Co., Ltd | 174.40 | 135.28
Shanghai Iroyal Chemical Co., Ltd | Xuancheng City Trooyawn Refined Chemical Industry Co., Ltd | 174.40 | 135.28
Shanghai Yongxiangshun International Trade Co., Ltd | Hebei Zhenxing Chemical and Rubber Co., Ltd | 174.40 | 135.28
Xuancheng City Trooyawn Refined Chemical Industry Co., Ltd | Xuancheng City Trooyawn Refined Chemical Industry Co., Ltd | 174.40 | 135.28
Yoke Chemicals and New Materials (Shanghai) Co. Ltd | Jiangsu Yoke Technology Co., Ltd | 174.40 | 135.28
Zhangjiagang Fortune Chemical Co., Ltd | Nantong Jiangshan Agrochemical & Chemicals Limited Liability Co., Ltd | 174.40 | 135.28
Zhangjiagnag Fortune Chemical Co., Ltd | Shandong Yarong Chemical Co., Ltd | 174.40 | 135.28
China Wide-Entity |  | * 269.02 | 243.09
* This rate is based on facts available with adverse inferences.

Disclosure

¹⁰ See Memorandum, “Final Analysis of Double Remedy,” dated concurrently with this notice.

Commerce intends to disclose the calculations performed in connection with this final determination within five days of any public announcement or, if there is no public announcement, within five days of the date of publication of this notice in the Federal Register in accordance with 19 CFR 351.224(b).

Continuation of Suspension of Liquidation

In accordance with section 735(c)(1)(B) of the Act, we will instruct U.S. Customs and Border Protection (CBP) to continue to suspend liquidation of all appropriate entries of subject merchandise, as described in Appendix I of this notice, which were entered, or withdrawn from warehouse, for consumption on or after December 4, 2024, the date of publication in the Federal Register of the Preliminary Determination.

Pursuant to section 735(c)(1)(B)(ii) of the Act and 19 CFR 351.210(d), upon the publication of this notice, Commerce will instruct CBP to require a cash deposit for estimated antidumping duties for appropriate entries. To determine the antidumping duty cash deposit rate, Commerce normally adjusts the estimated weighted-average dumping margin by the amount of domestic subsidy pass-through and export subsidies determined in a companion countervailing duty (CVD) proceeding. As Commerce made an affirmative determination for domestic subsidy pass-through, we have offset the calculated estimated weighted-average dumping margins in the above table by the appropriate subsidy rates to calculate the applicable cash deposit rates. In the companion CVD final determination, Commerce determined no export subsidy rates exist for Anhui RunYue or Zhejiang Wansheng.¹¹ Thus, because the mandatory respondents and all-other companies in the companion CVD investigation had no export subsidy rates, Commerce is not offsetting the mandatory respondents' or the all-others estimated weighted-average dumping margins for export subsidies.

¹¹ See unpublished Federal Register notice, “Certain Alkyl Phosphate Esters from the People's Republic of China: Final Affirmative Countervailing Duty Determination,” dated concurrently with this notice.

Commerce will instruct CBP to require the following cash deposits for estimated antidumping duties for all appropriate entries: (1) for the producer/exporter combinations listed in the table above, the applicable cash deposit rate is listed in the table for that combination; (2) for all combinations of Chinese producers/exporters of the merchandise under consideration that have not established eligibility for a separate rate, the cash deposit rate will be equal to the cash deposit rate listed for the China-wide entity in the table above; and (3) for all third-country exporters of the merchandise under consideration that are not listed in the table above, the cash deposit rate is the cash deposit rate applicable to the Chinese producer/exporter combination or the China-wide entity that supplied that third-country exporter. These suspension of liquidation instructions will remain in effect until further notice.

U.S. International Trade Commission (ITC)

In accordance with section 735(d) of the Act, we will notify the ITC of this final affirmative determination of sales at LTFV. Because the final determination in this investigation is affirmative, in accordance with section 735(b)(2) of the Act, the ITC will make its final determination as to whether the domestic industry in the United States is materially injured, or threatened with material injury, by reason of imports of alkyl phosphate esters no later than 45 days after this final determination. If the ITC determines that material injury or threat of material injury does not exist, the proceeding will be terminated and all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Continuation of Suspension of Liquidation” section above.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination and this notice are issued and published pursuant to sections 735(d) and 777(i)(1) of the Act, and 19 CFR 351.210(c).

Dated: April 18, 2025.
Christopher Abbott,
Deputy Assistant Secretary for Policy and Negotiations, performing the non-exclusive functions and duties of the Assistant Secretary for Enforcement and Compliance.

Appendix I

Scope of the Investigation

The products covered by this investigation are alkyl phosphate esters, which are halogenated and non-halogenated phosphorus-based esters with a phosphorus content of at least 6.5 percent (per weight) and a viscosity between 1 and 2000 mPa.s (at 20-25 °C).

Merchandise subject to this investigation primarily includes Tris (2-chloroisopropyl) phosphate (TCPP), Tris(1,3-dichloroisopropyl) phosphate (TDCP), and Triethyl Phosphate (TEP).

TCPP is also known as Tris (1-chloro-2-propyl) phosphate, Tris (1-chloropropan-2-yl) phosphate, Tris (monochloroisopropyl) phosphate (TMCP), and Tris (2-chloroisopropyl) phosphate (TCIP). TCPP has the chemical formula C9H18Cl3O4P and the Chemical Abstracts Service (CAS) Nos. 1244733-77-4 and 13674-84-5. It may also be identified as CAS No. 6145-73-9.

TDCP is also known as Tris (1,3-dichloroisopropyl) phosphate, Tris (1,3-dichloro-2-propyl) phosphate, Chlorinated tris, tris {2- chloro-1-(chloromethyl ethyl)} phosphate, TDCPP, and TDCIPP. TDCP has the chemical formula C9H15Cl6O4P and the CAS No. 13674-87-8.

TEP is also known as Phosphoric acid triethyl ester, phosphoric ester, flame retardant TEP, Tris(ethyl) phosphate, Triethoxyphosphine oxide, and Ethyl phosphate (neutral). TEP has the chemical formula (C2H5O)3PO and the CAS No. 78-40-0.

Imported alkyl phosphate esters are not excluded from the scope of this investigation even if the imported alkyl phosphate ester consists of a single isomer or combination of isomers in proportions different from the isomers ordinarily provided in the market.

Also included in this investigation are blends including one or more alkyl phosphate esters, with or without other substances, where the alkyl phosphate esters account for 20 percent or more of the blend by weight.

Alkyl phosphate esters are classified under subheading 2919.90.5050, Harmonized Tariff Schedule of the United States (HTSUS). Imports may also be classified under subheadings 2919.90.5010 and 3824.99.5000, HTSUS. The HTSUS subheadings and CAS registry numbers are provided for convenience and customs purposes. The written description of the scope is dispositive.

Appendix II

List of Topics Discussed in the Issues and Decision Memorandum

I. Summary

II. Background

III. Adjustments Under Section 777A(f) of the Act

IV. Separate Rates

V. Changes Since the Preliminary Determination

VI. Application of Facts Available and Use of Adverse Inference

VII. Discussion of the Issues

General Comments

Comment 1: Whether Commerce Selected the Proper Surrogate Country

Comment 2: Whether Commerce Selected Proper Surrogate Financial Statements

Comment 3: How to Calculate the Double Remedies Offsets Applicable to Separate Rate Companies

Comment 4: Whether Commerce Should Consider Public Policy

Comment 5: Whether to Include Wastewater Treatment Inputs as Overhead or as Factors of Production

Anhui RunYue

Comment 6: Whether to Apply Adverse Facts Available to Certain Packing Material

Comment 7: Whether Commerce Should Allow a By-Product Offset

Zhejiang Wansheng

Comment 8: Whether Commerce Correctly Converted the Surrogate Value Used in the Surrogate Value Calculation for a Raw Material Input

VIII. Recommendation

[FR Doc. 2025-07131 Filed 4-24-25; 8:45 am]

BILLING CODE 3510-DS-P